DEPARTMENT OF COMMERCE

National Oceanic and Atmospheric Administration

RIN 0648-XC547

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee to consider actions affecting New England fisheries in the exclusive economic zone (EEZ). Recommendations from this group will be brought to the full Council for formal consideration and action, if appropriate.

DATES: This meeting will be held on Wednesday, March 27, 2013, at 9:30 a.m.

ADDRESSES: The meeting will be held at the Westin Waterfront Hotel, 425 Summer Street, Boston, MA 02110; telephone: (617) 532-4600; fax: (617) 532-4650.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Committee will recommend measures for Framework 25 to the Sea Scallop Fishery Management Program (FMP). Framework 25 will include fishery specifications for fishing year 2014 and default measures for 2015 as well as accountability measures for southern windowpane flounder. The committee will provide recommendations for research priorities as well as review the status of the fishery for fishing year 2012. In addition, the committee will review progress on the Limited Access General Category Individual Fishing Quota performance report being completed by the Scallop Plan Development Team. Finally, NMFS will give a presentation about management action timing issues. The Committee will review the general timelines and steps involved in reviewing and approving fishery management actions and have an opportunity to ask questions.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 5, 2013.
Tracey L. Thompson,
Acting Deputy Director, Office of Sustainable Fisheries, National Marine Fisheries Service.

[FR Doc. 2013-05434 Filed 3-7-13; 8:45 am]

BILLING CODE 3510-22-P